DEPARTMENT OF THE TREASURY

Request for Information—State Small Business Credit Initiative (SSBCI) Technical Assistance Funds

AGENCY: Departmental Offices, Treasury.

ACTION: Request for information.

SUMMARY: The State Small Business Credit Initiative (SSBCI) provides funds to States, Territories, the District of Columbia, and Tribal governments to enable these jurisdictions to support programs for small businesses. The Department of the Treasury (Treasury) is authorized to provide up to $500 million in support for small business technical assistance (TA) programs. Treasury invites the public to comment on how Treasury can use its authorities to fund TA to very small businesses (VSBs) and business enterprises owned and controlled by socially and economically disadvantaged individuals (SEDI-owned businesses) ¹ applying to SSBCI credit and investment programs and other jurisdiction and Federal programs that support small businesses. Responses may be used to inform Treasury's future actions.

¹ SEDI-owned businesses are defined and described in SSBCI guidance. See State Small Business Credit Initiative Technical Assistance Grant Program Guidelines, https://home.treasury.gov/system/files/136/SSBCI-Technical-Assistance-Guidelines-April-2022.pdf; State Small Business Credit Initiative Capital Program Policy Guidelines, https://home.treasury.gov/system/files/256/SSBCI-Capital-Program-Policy-Guidelines-November-2021.pdf.

DATES: Responses must be received by October 20, 2022 to be assured of consideration.

ADDRESSES: Please submit comments electronically through the Federal eRulemaking Portal: http://www.regulations.gov. All comments should be captioned with “SSBCI Request for Information Comments.” Please include your name, organization (if applicable), and email addresses. Where appropriate, a comment should include a short executive summary. In general, comments received will be posted on http://www.regulations.gov without change, including any business or personal information provided. Comments received, including attachments and other supporting materials, will be part of the public record and subject to public disclosure. Do not enclose any information in your comment or supporting materials that you consider confidential or inappropriate for public disclosure.

FOR FURTHER INFORMATION CONTACT: Jeffrey Stout, at (866) 220-9050 or ssbci_information@treasury.gov. Further information may be obtained from the SSBCI website, https://home.treasury.gov/policy-issues/small-business-programs/state-small-business-credit-initiative-ssbci.

SUPPLEMENTARY INFORMATION:

Purpose: This request for information (RFI) offers the public the opportunity to provide information on effective approaches for the delivery of TA through SSBCI. Specifically, Treasury requests information on how it can most effectively use its authority under 12 U.S.C. 5708(e)(1) and (3) to provide funds to jurisdictions and to contract with legal, accounting, and financial advisory firms to provide TA to qualifying businesses applying to SSBCI credit and investment programs run by jurisdictions and other jurisdiction and Federal programs that support small businesses.

Background: The American Rescue Plan Act of 2021 (ARPA) reauthorized and amended the Small Business Jobs Act of 2010 (SSBCI statute) to provide $10 billion to fund SSBCI as a response to the economic effects of the COVID-19 pandemic.² Specifically, ARPA provided over $9 billion to fund small business programs of eligible jurisdictions (i.e., states, the District of Columbia, territories, and Tribal governments) and up to $500 million for TA to qualifying businesses. Under the SSBCI statute (12 U.S.C. 5708(e)), Treasury may deploy the $500 million for TA in three ways: ³

² ARPA, Public Law 117-2, sec. 3301, codified at 12 U.S.C. 5701 et seq. SSBCI was originally established in title III of the Small Business Jobs Act of 2010. Information about SSBCI is available at: https://home.treasury.gov/policy-issues/small-business-programs/state-small-business-credit-initiative-ssbci.

³ 12 U.S.C. 5708(e).

• TA funding to eligible jurisdictions: Treasury may provide funds to eligible jurisdictions to carry out a TA plan under which a jurisdiction will provide legal, accounting, and financial advisory services, either directly or contracted with legal, accounting, and financial advisory firms, with priority given to SEDI-owned businesses, to VSBs and SEDI-owned businesses applying for SSBCI capital programs and other jurisdiction or Federal programs that support small businesses.

• TA funding to the Minority Business Development Agency (MBDA): Treasury may transfer amounts to the MBDA so that the MBDA may use such amounts in a matter it determines appropriate, including through contracting with third parties, to provide TA to SEDI-owned businesses applying to SSBCI capital programs and other jurisdiction or Federal programs that support small businesses.

• TA funding to TA providers: Treasury may contract with legal, accounting, and financial advisory firms (with priority given to SEDI-owned businesses), to provide TA to SEDI-owned businesses applying to SSBCI capital programs and other jurisdiction or Federal programs that support small businesses.

Treasury previously allocated $200 of the $500 million in TA funding to an SSBCI TA Grant Program to support jurisdictions' TA plans and $100 million to the MBDA.⁴ This RFI relates specifically to how Treasury might allocate additional funding to jurisdictions or contract with TA providers.

⁴ See Treasury Announces Plans to Deploy $300 Million in Technical Assistance to Underserved Entrepreneurs and Very Small Businesses through the State Small Business Credit Initiative (April 28, 2022), https://home.treasury.gov/system/files/136/SSBCITA-Release-4-28-22.pdf.

How to Comment: This RFI is for information and planning purposes only and should not be construed as a solicitation or as an obligation on the part of Treasury. We ask respondents to address the Key Questions listed below. You do not need to address every question and should focus on those where you have views or relevant expertise. Please clearly indicate which questions you are addressing in your response. You may provide detailed suggestions and examples. All comments received, including attachments and other supporting materials, are part of the public record and subject to public disclosure. You should only submit information that you wish to make publicly available.

Guidance for Submitting Documents: We ask that each respondent include their name, organization (if applicable), and email addresses.

Key Questions:

1. Gaps in TA to small businesses. What gaps exist in the types and availability of TA to small businesses that seek small business financing? In particular, Treasury is considering the following gaps:

• across the business life cycle—seed, early stage, intermediate, and established;

• across the capital continuum between debt and venture capital/equity financing;

• across different industries (for example, do small manufacturing businesses face different hurdles than small businesses in other industries?); and

• across different geographies and regions.

2. Most effective method to deploy TA funding. How can the deployment of TA funding under 12 U.S.C. 5708(e)(1) and (3) most effectively impact VSBs and SEDI-owned businesses in communities throughout the United States?

3. Considerations for a competitive TA grant program. If Treasury conducted a program to provide competitive grants to jurisdictions, in addition to the existing pre-allocated SSBCI TA Grant Program, what criteria should Treasury consider in selecting recipients and sizing awards?

4. Considerations for contracting. If Treasury contracted with legal, accounting, and financial advisory firms to provide TA to qualifying SEDI-owned businesses under 12 U.S.C. 5708(e)(3), what types of entities are best positioned to provide TA to address gaps in TA availability? Please provide specific examples.

5. Leveraging TA funding. How could the Federal TA funding crowd in and leverage private, nonprofit, and philanthropic funds for the same purposes? Are there existing private sector, nonprofit, and philanthropic funded TA services for VSBs and SEDI-owned businesses and how could Treasury's efforts leverage that funding?

6. Other comments. Do you have any other comments on any aspect of the deployment of the TA funding under 12 U.S.C. 5708(e)(1) and (3)?

Jeffrey Stout,
Director, SSBCI.

[FR Doc. 2022-20326 Filed 9-19-22; 8:45 am]

BILLING CODE 4810-AK-P